DEPARTMENT OF THE TREASURY

Periodic Meeting of the U.S. Department of the Treasury Tribal Advisory Committee

AGENCY: Department of the Treasury.

ACTION: Notice of meeting.

SUMMARY: This notice announces that the U.S. Department of the Treasury Tribal Advisory Committee (TTAC) will convene for a public meeting on Wednesday, December 9, 2020, from 1 p.m.-4 p.m. Eastern Time. Due to safety protocol in response to the COVID-19 pandemic, the meeting will be held electronically. The meeting is open to the public, and the meeting is accessible to individuals with differing abilities.

DATES: The meeting will be held on Wednesday, December 9, 2020 from 1 p.m. to 4 p.m. Eastern Time.

ADDRESSES: Due to safety concerns in response to the COVID-19 pandemic, the meeting will be held electronically. Attendees are requested to register online or by telephone by 5 p.m. Eastern Time on Friday, December 4, 2020. Attendees with a valid email address may visit https://www.cvent.com/d/d7q4cc or for mobile registration at https://www.cvent.com/d/d7q4cc?dvce=2 to complete a secure online registration form. All other attendees may contact Marie Vazquez Lopez at Vazquez-Lopez at Marie.VazquezLopez@treasury.gov. If you require a reasonable accommodation, please contact the Departmental Offices Reasonable Accommodations Coordinator at ReasonableAccommodationRequests@treasury.gov. If requesting a sign language interpreter, please make sure your request to the Reasonable Accommodations Coordinator is at least (5) five days prior to the event if at all possible. For all other inquiries concerning the TTAC meeting, please contact TTAC@treasury.gov.

FOR FURTHER INFORMATION CONTACT: Nancy Montoya, Policy Analyst, Department of the Treasury, 1500 Pennsylvania Avenue NW, Room 1426G, Washington, DC 20220, at nancy.montoya@treasury.gov or (202) 622-2031 (this is not a toll-free number). Persons who have difficulty hearing or speaking may access this number via TTY by calling the toll-free Federal Relay Service at (800) 877-8339.

SUPPLEMENTARY INFORMATION:

Background

Section 3 of the Tribal General Welfare Exclusion Act of 2014, Public Law 113-68, 128 Stat. 1883, enacted on September 26, 2014 (TGWEA), directs the Secretary of the Treasury (Secretary) to establish a seven member Tribal Advisory Committee to advise the Secretary on matters related to the taxation of Indians, the training of Internal Revenue Service field agents, and the provision of training and technical assistance to Native American financial officers.

Pursuant to Section 3 of the TGWEA and in accordance with the provisions of the Federal Advisory Committee Act (FACA), 5 U.S.C. App. 1 et seq., the TTAC was established on February 10, 2015, as the “U.S. Department of the Treasury Tribal Advisory Committee.” The TTAC's Charter provides that it shall operate under the provisions of the FACA and shall advise and report to the Secretary on:

(1) Matters related to the taxation of Indians;

(2) The establishment of training and education for internal revenue field agents who administer and enforce internal revenue laws with respect to Indian tribes of Federal Indian law and the Federal Government's unique legal treaty and trust relationship with Indian tribal governments; and

(3) The establishment of training of such internal revenue field agents, and provisions of training and technical assistance to tribal financial officers, about implementation of the TGWEA and any amendments.

Sixth Periodic Meeting

In accordance with section 10(a)(2) of the FACA and implementing regulations at 41 CFR 102-3.150, Krishna P. Vallabhaneni, the Designated Federal Officer of the TTAC, has ordered publication of this notice to inform the public that the TTAC will convene its sixth periodic meeting on Wednesday, December 9, 2020, from 1 p.m. to 4 p.m. Eastern Time. Due to safety concerns in response to the COVID-19 pandemic, the meeting will be held electronically.

Summary of Agenda and Topics To Be Discussed

During this meeting, the seven members of the TTAC will provide an overview of the TTAC's 2020 progress, hold discussion and possible action on subcommittee recommendations, and adopt dates for the 2021 TTAC Public Meetings. Participants are welcome to make Public Comments related to tribal taxation to the TTAC at the meeting. In addition, the TTAC will read any public comments submitted and take other actions necessary to fulfill the Committee's mandate.

Public Comment

Members of the public wishing to comment on the business of the TTAC are invited to submit written statements by any of the following methods:

Electronic Statements

• Send electronic comments to TTAC@treasury.gov by November 18, 2020.

Paper Statements

• Send paper statements in triplicate to the Treasury Tribal Advisory Committee, Department of the Treasury, 1500 Pennsylvania Avenue NW, Room 1426G, Washington, DC 20220.

The Department of the Treasury will post all statements on its website https://www.treasury.gov/resource-center/economic-policy/tribal-policy/Pages/Tribal-Policy.aspx without change, including any business or personal information provided such as names, addresses, email addresses, or telephone numbers. The Department of the Treasury will also make such statements available for public inspection and copying in the Department of the Treasury's Library, 720 Madison Place NW, Room 1020, Washington, DC 20220, on official business days between the hours of 10 a.m. and 5 p.m. Eastern Time. You can make an appointment to inspect statements by telephoning (202) 622-2000. All statements received, including attachments and other supporting materials, are part of the public record and subject to public disclosure. You should submit only information that you wish to make available publicly.

Krishna P. Vallabhaneni,
Tax Legislative Counsel.

[FR Doc. 2020-24575 Filed 11-4-20; 8:45 am]

BILLING CODE 4810-25-P